DEPARTMENT OF ENERGY

Federal Energy Regulatory Commission

[Docket No. IC08-561-000; FERC Form 561]

Commission Information Collection Activities, Proposed Collection; Comment Request; Extension

February 1, 2008.

AGENCY: Federal Energy Regulatory Commission, DOE.

ACTION: Notice.

SUMMARY: In compliance with the requirements of section 3506(c)(2)(a) of the Paperwork Reduction Act of 1995 (Pub. L. No. 104-13), the Federal Energy Regulatory Commission (Commission) is soliciting public comment on the specific aspects of the information collection described below.

DATES: Comments on the collection of information are due April 7, 2008.

ADDRESSES: An example of this information collection can be obtained from the Commission's Documents & Filing Web site (http://www.ferc.gov/docs-filings/elibrary.asp) or by contacting the Federal Energy Regulatory Commission, Attn: Michael Miller, Office of the Executive Director, ED-34, 888 First Street, NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC08-561-000.

Documents filed electronically via the Internet must be prepared in an acceptable filing format and in compliance with the Federal Energy Regulatory Commission's submission guidelines. Complete filing instructions and acceptable filing formats are available at (http://www.ferc.gov/help/submission-guide/electronic-media.asp). To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

All comments may be viewed, printed or downloaded remotely via the Internet through FERC's homepage using the eLibrary link. For user assistance, contact ferconlinesupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC Form 561 “Annual Report of Interlocking Positions” (OMB No. 1902-0099) is used by the Commission to implement the statutory provisions of section 305 of the Federal Power Act (FPA), as amended by Title II, section 211 of the Public Utility Regulatory Policies Act of 1978 (PURPA) (16 U.S.C. 825d). FPA section 305—Officials Dealing in Securities—Interlocking Directorates requires the annual reporting by public utility officers and directors of similar types of positions they hold with financial institutions, insurance companies, utility equipment and fuel providers, and with any of an electric utility's twenty largest purchasers of electric energy.¹ The FPA mandates the information that must be filed, the required filers, the requirement to make the information available to the public, and the filing deadline. The Commission is not empowered to amend or waive these statutory requirements. Requirements the Commission has the authority to amend, such as filing format and method, can be found in 18 CFR part 46 and section 131.31.

¹ Annual Report of a Utility's Twenty Largest Purchasers, FERC-566, OMB No. 1902-0114, collects information from the twenty largest purchasers.

Without this information collection, the Commission and the public would not be able to inquire into and determine whether public or private interests will be adversely affected by the holding of such positions.

Under the current OMB authorization, the Commission requires the FERC Form 561 filings in hardcopy with an optional diskette containing a spreadsheet of the interlocking directorate information. However, the Commission has indicated under RM07-16-000,² to allow for the voluntary electronic submittal of many required filings, including the FERC Form 561, by early 2008. Through eFiling 7.0, the form will be filed in Adobe Acrobat with an optional electronic spreadsheet attachment. Implementation of eFiling 7.0 will eliminate the current burden of mailing and hand-delivering the filings in hardcopy.

² Filing Via the Internet, RM07-16-000, 72 FR 65659 (2007), FERC Stats. & Regs. ¶ 31,259.

Action: The Commission is requesting a three-year extension of the current expiration date, and proposes to make the filing of the FERC Form 561 more efficient during 2008 under RM07-16-000.

Burden Statement: Public reporting burden for this collection is estimated as:

Number of respondents annually | Number of responses per respondent | Average burden hours per response | Total annual burden hours
(1) | (2) | (3) | (1)×(2)×(3)
1996 | 1 | .25 | 499

The estimated total cost to respondents is $21,516. [499 hours divided by 2080 hours ³ per year, times $126,384 ⁴ equals $30,320]. The cost per respondent is $15 (rounded off).

³ Number of hours an employee works each year.

⁴ Average annual salary per employee.

The reporting burden includes the total time, effort, or financial resources expended to generate, maintain, retain, disclose, or provide the information including: (1) Reviewing instructions; (2) developing, acquiring, installing, using technology and systems for the purposes of collecting, validating, verifying, processing, maintaining, disclosing and providing information; (3) adjusting the existing ways to comply with any previously applicable filing instructions and requirements; (4) training personnel to respond to a collection of information; (5) searching data sources; (6) completing and reviewing the collection of information; and (7) transmitting, or otherwise disclosing the information.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) The accuracy of the agency's burden estimate of the proposed information collection, including the validity of the methodology and assumptions used to calculate the reporting burden; (2) ways to enhance the quality, utility and clarity of the information to be collected; and (3) the proposal to provide the option to collect FERC Form 561 electronically by late 2007, as proposed under RM07-16-000 and any reduction in burden that option might allow filers.

Kimberly D. Bose,
Secretary.

[FR Doc. E8-2410 Filed 2-8-08; 8:45 am]

BILLING CODE 6717-01-P